DEPARTMENT OF ENERGY

Federal Energy Regulatory Commission

[Docket Nos. RM96-1-020, RP02-495-000, RP02-492-000, RP02-493-000, RP02-491-000, RP02-485-000, RP02-488-000, RP02-486-000, RP02-487-000, RP02-499-000, RP02-490-000, RP02-489-000 and RP02-494-000;]

Standards For Business Practices of Interstate Natural Gas Pipelines, Algonquin LNG, Inc., Algonquin Gas Transmission Company, East Tennessee Natural Gas Company, Egan Hub Partners, L.P., Enbridge Pipeline (AlaTenn) Inc., Enbridge Pipelines (KPC), Enbridge Pipelines (Midla) Inc., Enbridge Pipelines (UTOS) LLC, Equitrans, L.P., Gulfstream Natural Gas System, Maritimes & Northeast Pipeline, L.L.C., Texas Eastern Transmission, LP; Notice of Compliance Filing

August 21, 2002.

Take notice that the above-referenced pipelines made filings in compliance with Docket No. RM96-1-020, Order No. 587-O.¹ These revised tariff sheets to be effective October 1, 2002.

¹ Standards for Business Practices of Interstate Natural Gas Pipelines, Order No. 587-O, 67 FR 30788 (May 8, 2002), III FERC Stats. & Regs. Regulations Preambles, ¶ 31,129 (May 1, 2002).

In Order No. 587-O, the Commission required pipelines to file revised tariff sheets to comply with Version 1.5 of the consensus industry standards, promulgated by the Wholesale Gas Quadrant of the North American Energy Standards Board (NAESB), formerly the Gas Industry Standards Board. The Commission directed that pipelines implement these standards by filing revised tariff sheets no later than August 1, 2002, to become effective October 1, 2002 implementation date required by Order No. 587-O.

Any person desiring to become a party in a proceeding must file a separate motion to intervene or protest in each docket.

Any person desiring to be heard or to protest said filing should file a motion to intervene or a protest with the Federal Energy Regulatory Commission, 888 First Street, NE., Washington, DC 20426, in accordance with Sections 385.214 or 385.211 of the Commission's Rules and Regulations. All such motions or protests must be filed on or before August 28, 2002. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-21850 Filed 8-27-02; 8:45 am]

BILLING CODE 6717-01-P